DEPARTMENT OF THE INTERIOR

Minerals Management Service

[Docket No. MMS-2008-MRM-0018]

Major Portion Prices and Due Date for Additional Royalty Payments on Indian Gas Production in Designated Areas Not Associated With an Index Zone

AGENCY: Minerals Management Service (MMS), Interior.

ACTION: Notice of major portion prices for calendar year 2008.

SUMMARY: Final regulations for valuing gas produced from Indian leases, published August 10, 1999, require MMS to determine major portion prices and notify industry by publishing the prices in the Federal Register. The regulations also require MMS to publish a due date for industry to pay additional royalties based on the major portion prices. This notice provides major portion prices for the 12 months of calendar year 2008.

DATES: The due date to pay additional royalties based on the major portion prices is June 28, 2010.

FOR FURTHER INFORMATION CONTACT: John Barder, Manager, Team B, Western Audit and Compliance, Minerals Revenue Management; telephone (303) 231-3702; fax number (303) 231-3755; e-mail John.Barder@mms.gov; or Mike Curry, Team B, Western Audit and Compliance, Minerals Revenue Management; telephone (303) 231-3741; fax (303) 231-3755; e-mail Michael.Curry@mms.gov. Mailing address: Minerals Management Service, Minerals Revenue Management, Western Audit and Compliance Management, Team B, P.O. Box 25165, MS 62220B, Denver, Colorado 80225-0165.

SUPPLEMENTARY INFORMATION: On August 10, 1999, MMS published a final rule titled “Amendments to Gas Valuation Regulations for Indian Leases” at 64 FR 43506 with the effective date January 1, 2000. The gas regulations apply to all gas production from Indian (tribal or allotted) oil and gas leases, except leases on the Osage Indian Reservation.

The rule requires that MMS publish major portion prices for each designated area not associated with an index zone for each production month beginning January 2000, along with a due date for additional royalty payments. See 30 CFR 206.174(a)(4)(ii) (2009). If additional royalties are due based on a published major portion price, the lessee must submit an amended Form MMS-2014, Report of Sales and Royalty Remittance, to MMS by the due date. If you do not pay the additional royalties by the due date, MMS will bill you late payment interest under 30 CFR 218.54. The interest will accrue from the due date until MMS receives your payment and an amended Form MMS-2014. The table below lists the major portion prices for all designated areas not associated with an index zone. The due date is 60 days after the publication date of this notice.

Gas Major Portion Prices ($/MMBtu) for Designated Areas Not Associated With an Index Zone
MMS-Designated areas | Jan 2008 | Feb 2008 | Mar 2008 | Apr 2008
Blackfeet Reservation | 6.18 | 7.00 | 7.50 | 8.28
Fort Belknap | 6.40 | 6.65 | 6.87 | 6.97
Fort Berthold | 7.28 | 7.84 | 8.76 | 9.48
Fort Peck Reservation | 9.05 | 9.72 | 10.41 | 10.94
Navajo Allotted Leases in the Navajo Reservation | 7.04 | 7.74 | 8.35 | 8.77
Rocky Boys Reservation | 5.81 | 6.38 | 7.00 | 7.41
Ute Tribal Leases in the Uintah and Ouray Reservation | 5.74 | 6.80 | 7.46 | 7.66

MMS-Designated areas | May 2008 | Jun 2008 | Jul 2008 | Aug 2008
Blackfeet Reservation | 8.94 | 9.79 | 10.95 | 8.39
Fort Belknap | 7.20 | 7.54 | 7.54 | 7.54
Fort Berthold | 10.69 | 11.62 | 10.36 | 7.63
Fort Peck Reservation | 12.21 | 12.25 | 13.35 | 10.31
Navajo Allotted Leases in the Navajo Reservation | 9.54 | 10.40 | 11.49 | 7.82
Rocky Boys Reservation | 8.18 | 9.28 | 7.95 | 5.70
Ute Tribal Leases in the Uintah and Ouray Reservation | 8.53 | 8.46 | 8.72 | 6.57

MMS-Designated areas | Sep 2008 | Oct 2008 | Nov 2008 | Dec 2008
Blackfeet Reservation | 6.65 | 5.58 | 5.23 | 5.00
Fort Belknap | 2.63 | 6.18 | 6.13 | 5.99
Fort Berthold | 6.19 | 5.92 | 5.69 | 5.54
Fort Peck Reservation | 8.94 | 7.21 | 6.15 | 5.46
Navajo Allotted Leases in the Navajo Reservation | 6.27 | 4.50 | 3.44 | 5.09
Rocky Boys Reservation | 4.66 | 4.41 | 4.13 | 3.91
Ute Tribal Leases in the Uintah and Ouray Reservation | 1.53 | 2.98 | 2.50 | 4.33

For information on how to report additional royalties due to major portion prices, please refer to our Dear Payor letter dated December 1, 1999, on the MMS Web site at http://www.mrm.mms.gov/ReportingServices/PDFDocs/991201.pdf.

Dated: April 2, 2010.
Gregory J. Gould,
Associate Director for Minerals Revenue Management.

[FR Doc. 2010-9757 Filed 4-26-10; 8:45 am]

BILLING CODE 4310-MR-P